TRADE AND DEVELOPMENT AGENCY

SES Performance Review Board

AGENCY: Trade and Development Agency.

ACTION: Notice.

SUMMARY: Notice is hereby given of the appointment of members of the Trade and Development Agency's Performance Review Board.

FOR FURTHER INFORMATION CONTACT: Larry P. Bevan, Assistant Director for Management, Trade and Development Agency, 1621 N. Kent Street, Arlington, VA 22209-2131 (703) 875-4357.

SUPPLEMENTARY INFORMATION: Section 4314(c)(1) through (5), U.S.C., requires each agency to establish, in accordance with regulations prescribed by the Office of Personnel Management, one or more SES performance review boards. The board shall review and evaluate the initial appraisal of a senior executive's performance by the supervisor, along with any recommendations to the appointing authority relative to the performance of the senior executive.

The following have been selected as acting members of the Performance Review Board of the Trade and Development Agency: Duff Gillespie, Deputy Assistant Administrator, Center for Population, Health and Nutrition, Bureau for Global Programs, Field Support and Research, U.S. Agency for International Development; Franklin Moore, Deputy Assistant Administrator, Office of Microenterprise Development, Center for Economic Growth and Agricultural Development, U.S. Agency for International Development; and Sandy Owens, Deputy Chief Financial Officer, Office of Financial Management, U.S. Agency for International Development.

Dated: November 27, 2001.
Larry P. Bevan,
Assistant Director for Management.

[FR Doc. 01-29734 Filed 11-29-01; 8:45 am]

BILLING CODE 8040-01-M